FEDERAL COMMUNICATIONS COMMISSION

Radio Broadcasting Services; AM or FM Proposals To Change the Community of License

AGENCY: Federal Communications Commission.

ACTION: Notice.

SUMMARY: The following applicants filed AM or FM proposals to change the community of license: CHEHALIS VALLEY EDUCATIONAL FOUNDATION, Station KACS, Facility ID 10685, BPED-20121009ABE, From RAINIER, WA, To CHEHALIS, WA; CHRISTOPHER FALLETTI, Station NEW, Facility ID 190424, BMPH-20121018ABU, From PHILLIPSBURG, KS, To WAKEENEY, KS; GULF SOUTH COMMUNICATIONS, INC., Station WDJR, Facility ID 25575, BPH-20121119AOD, From ENTERPRISE, AL, To HARTFORD, AL; GULF SOUTH COMMUNICATIONS, INC., Station WDBT, Facility ID 62206, BPH-20121119AOG, From HARTFORD, AL, To HOPE HULL, AL; HUNT COUNTY RADIO, LLC, Station KIKT, Facility ID 21597, BPH-20121126ABU, From GREENVILLE, TX, To COOPER, TX; JER LICENSES, LLC, Station NEW, Facility ID 190381, BNPH-20120529ALI, From PEACH SPRINGS, AZ, To SPRINGDALE, UT; MCC RADIO, LLC, Station KWOK, Facility ID 68057, BP-20121114AGE, From HOQUIAM, WA, To ABERDEEN, WA; MCC RADIO, LLC, Station KDUX-FM, Facility ID 52676, BPH-20121114AGF, From ABERDEEN, WA, To HOQUIAM, WA; TRUTH BROADCASTING CORPORATION, Station KTIA-FM, Facility ID 6417, BPH-20121113AMW, From BOONE, IA, To HUXLEY, IA.

DATES: The agency must receive comments on or before February 19, 2013.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2012-30594 Filed 12-19-12; 8:45 am]

BILLING CODE 6712-01-P